DEPARTMENT OF JUSTICE

Notice of Lodging of Proposed Consent Decree Under the Comprehensive Environmental Response, Compensation, and Liability Act

On November 7, 2017, the Department of Justice lodged a proposed Consent Decree with the United States District Court for the Northern District of Ohio in the lawsuit entitled United States v. Dover Chemical Corporation, Civil Action No. 5:17-cv-02335.

The proposed consent decree resolves claims by the United States in the associated complaint under the Comprehensive Environmental Response, Compensation, and Liability Act (“CERCLA”) against Dover Chemical Corporation (“Dover Chemical”) for response actions and past and future response costs relating to Operable Unit 2 of the Dover Chemical Corporation Superfund Site in Dover, Ohio. Under the proposed consent decree, Dover Chemical agrees to perform the remedial actions, estimated to cost $7.4 million, selected by EPA. Dover also agrees to pay past and future response costs incurred by the United States. The proposed consent decree includes a covenant not to sue Dover Chemical under sections 106 and 107 of CERCLA or under section 7003 of the Resource Conservation and Recovery Act (“RCRA”), conditioned upon the satisfactory performance by Dover Chemical of its obligations under the proposed consent decree.

The publication of this notice opens a period for public comment on the proposed consent decree. Comments should be addressed to the Acting Assistant Attorney General, Environment and Natural Resources Division, and should refer to United States v. Dover Chemical Corporation, D.J. Ref. No. 90-11-3-11517. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under Section 7003(d) of RCRA, a commenter may request an opportunity for a public meeting in the affected area.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $51.00 (25 cents per page reproduction cost) payable to the United States Treasury. For a paper copy without the exhibits and signature pages, the cost is $8.75.

Randall M. Stone,
Acting Assistant Section Chief, Environmental Enforcement Section, Environment and Natural Resources Division.

[FR Doc. 2017-24592 Filed 11-13-17; 8:45 am]

BILLING CODE 4410-15-P